DEPARTMENT OF THE INTERIOR

National Park Service

National Register of Historic Places; Notification of Pending Nominations and Related Actions

Nominations for the following properties being considered for listing or related actions in the National Register were received by the National Park Service before January 7, 2006.

Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by February 9, 2006.

John W. Roberts,
Acting Chief, National Register/National Historic Landmarks Program.

COLORADO

Moffat County

Castle Park Archeological District, Address Restricted, Dinosaur, 06000055

MICHIGAN

Muskegon County

Muskegon South Pierhead Light, (Light Stations of the United States MPS) S pier of Muskegon Lake entrance channel at Lake Michigan, 500 ft. from shore, Muskegon, 06000036

MISSOURI

Boone County

Coca-Cola Bottling Company Building, (Downtown Columbia, Missouri MPS) 10 Hitt St., Columbia, 06000043

Cape Girardeau County

Mckendree Chapel (Boundary Increase), S. side Bainbridge Rd., 0.5 mi. W of I-55, Jackson, 06000042

Jackson County

Old Town Historic District (Boundary Increase III), 140 Walnut St., Kansas City, 06000039

St. Louis Independent City

Beaumont Telephone Exchange Building, 2654 Locust St., St. Louis (Independent City), 06000038

Grant School, 3009 Pennsylvania Ave., St. Louis (Independent City), 06000037

MONTANA

Flathead County

Boles, Charles, House, (Kalispell MPS) 40 Appleway Dr., Kalispell, 06000041

Toole County

Shelby Town Hall, 100 Montana Ave., Shelby, 06000040

NEBRASKA

Hall County

Grand Island United States Post Office and Courthouse, 203 W. Second St., Grand Island, 06000044

PENNSYLVANIA

Delaware County

Hood Octagonal School, 3500 West Chester Pike, Newtown Square, Newtown Township, 06000045

SOUTH DAKOTA

Marshall County

Marshall County Courthouse, (County Courthouses of South Dakota MPS) 911 Vander Horck Ave., Britton, 06000047

Minnehaha County

Hayes Historic District, Roughly bounded by W. 22nd St. to W. 26th St. and by South Dakota Ave. to S. Phillips Ave., Sioux Falls, 06000049

Pennington County

Fairmount Creamery Company Building, 201 Main St., Rapid City, 06000048

Yankton County

Roane, James and Maude, House, 101 Broadway, Yankton, 06000046

VIRGINIA

Charlottesville Independent City

Jefferson School and Carver Recreation Center, 233 Fourth St., NW, Charlottesville (Independent City), 06000050

Fairfax County

D.C. Workhouse and Reformatory Historic District, Bet. Silverbrook Rd., Lorton Rd., Ox Rd., and Furnace Rd., Lorton, 06000052

Stafford County

Redoubt #2, Address Restrict, Stafford, 06000051

WISCONSIN

Sheboygan County

Elkhart Lake Road Race Circuits, Cty Hwys, J, P, JP, A, and Lake St., Elkhart Lake, 06000053

Wood County

West Fifth Street-West Sixth Street Historic District, W. Fifth St. and W. Sixth St., generally bounded by Adams Ave. and Oak Ave., Marshfield, 06000054

[FR Doc. E6-906 Filed 1-24-06; 8:45 am]

BILLING CODE 4310-70-P